DEPARTMENT OF TRANSPORTATION

Federal Transit Administration

[FTA Docket No. FTA-2014-0004]

Agency Information Collection Activity Under OMB Review

AGENCY: Federal Transit Administration, DOT.

ACTION: Notice of request for comments.

SUMMARY: The Federal Transit Administration invites public comment about our intention to request the Office of Management and Budget's (OMB) approval to renew the following information collections:

Pre-Award, Post-Delivery Audit Requirements Under Buy America Metropolitan and Statewide and Nonmetropolitan Transportation Planning

The information collected is necessary to determine eligibility of applicants and ensure the proper and timely expenditure of federal funds within the scope of each program. The Federal Register notice with a 60-day comment period soliciting comments for the Pre-Award, Post-Delivery Audit Requirements Under Buy America was published on November 8, 2013 (Citation 78 FR 217). No comments were received from that notice. The Federal Register notice with a 60-day comment period soliciting comments for the Metropolitan and Statewide and Nonmetropolitan Transportation Planning was published on November 22, 2013 (Citation 78 FR 226). No comments were received from that notice.

DATES: Comments must be submitted before February 28, 2014. A comment to OMB is most effective if OMB receives it within 30 days of publication.

FOR FURTHER INFORMATION CONTACT: Tia Swain, Office of Administration, Office of Management Planning, (202) 366-0354.

SUPPLEMENTARY INFORMATION:

Title: Pre-Award, Post-Delivery Audit Requirements Under Buy America (OMB Number: 2132-0544.)

Abstract: Federal Transit Laws, 49 U.S.C. 5323(j) and (m), require that recipients of Federal Transit Administration (FTA) funding comply with certain requirements, including Buy America, certify compliance of these requirements at the pre-award and post-delivery stages of the procurement process when using FTA funds and maintain on file certifications. Bidders or offerors must submit certificates to assure compliance with Buy America, the purchaser's contract specifications (for rolling stock only), and Federal motor vehicle safety requirements (for rolling stock only). The information collected on the certification forms is necessary for FTA recipients to meet the requirements of 49 U.S.C. Section 5323(j) and (m). In addition, FTA recipients are required to certify, as part of their annual Certifications and Assurances, that they will comply with pre-award and post-delivery audit requirements for rolling stock under 49 CFR Part 661.

Estimated Total Annual Burden: 2,786 hours.

Title: Metropolitan and Statewide and Nonmetropolitan Transportation Planning (OMB Number: 2132-0529.)

Abstract: The FTA and Federal Highway Administration (FHWA) jointly carry out the federal mandate to improve urban and rural transportation. 49 U.S.C. 5303 and 5304 and 23 U.S.C. 134 and 135 authorize the use of federal funds to assist Metropolitan Planning Organizations (MPOs), States, and local public bodies in developing transportation plans and programs to serve the transportation needs of urbanized areas over 50,000 in population and other areas of States outside of urbanized areas. The information collection activities involved in developing the Unified Planning Work Program (UPWP), the Metropolitan Transportation Plan, the Long-Range Statewide Transportation Plan, the Transportation Improvement Program (TIP), and the Statewide Transportation Improvement Program (STIP) are necessary to identify and evaluate the transportation issues and needs in each urbanized area and throughout every State. These products of the transportation planning process are essential elements in the reasonable planning and programming of federally funded transportation investments.

In addition to serving as a management tool for MPOs, the UPWP is used by both FTA and FHWA to monitor the transportation planning activities of MPOs. It also is needed to establish national out year budgets and regional program plans, develop policy on using funds, monitor State and local compliance with technical emphasis areas, respond to Congressional inquiries, prepare Congressional testimony, and ensure efficiency in the use and expenditure of Federal funds by determining that planning proposals are both reasonable and cost-effective. 49 U.S.C. 5303 and 23 U.S.C.134(j) require the development of TIPs for urbanized areas; STIPs are mandated by 49 U.S.C. 5304 and 23 U.S.C. 135(g) for an entire State. After approval by the Governor and MPO, metropolitan TIPs in attainment areas are to be incorporated directly into the STIP. For nonattainment areas, FTA/FHWA must make a conformity finding on the TIPs before including them in the STIP. The complete STIP is then jointly reviewed and approved or disapproved by FTA and FHWA. These conformity findings and approval actions constitute the determination that States are complying with the requirements of 23 U.S.C. 134 and 135 and 49 U.S.C. 5303 and 5304 as a condition of eligibility for federal-aid funding. Without these documents, approvals and findings, FTA and FHWA cannot provide capital and/or operating assistance.

The FTA and FHWA updated their method for estimating the annual burden hours of the transportation planning programs on respondents. The FTA and FHWA surveyed a sample of MPO annual work programs to identify annual planning compliance burdens associated with the preparation of TIPS, STIPs and plans. The FTA and FHWA are using the information from this sample as the basis to estimate the annual compliance burden for both this request for revision of the currently approved information collection, as well as for a forthcoming Notice of Proposed Rulemaking that FTA and FHWA will issue to implement changes to the metropolitan and statewide and nonmetropolitan transportation planning programs as a result of the Moving Ahead for Progress in the 21st Century Act, Public Law 112-141 (2012).

Estimated Total Annual Burden: 3,783,814 hours.

ADDRESSES: All written comments must refer to the docket number that appears at the top of this document and be submitted to the Office of Information and Regulatory Affairs, Office of Management and Budget, 725—17th Street NW., Washington, DC 20503, Attention: FTA Desk Officer.

Comments Are Invited on: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

Matthew M. Crouch,
Associate Administrator for Administration.

[FR Doc. 2014-01651 Filed 1-28-14; 8:45 am]

BILLING CODE P